DEPARTMENT OF LABOR

Employment and Training Administration

[TA-W-52,665]

Textron Fastening Systems, a Wholly-Owned Subsidiary of Textron, Inc., PFPD Plant, Tooling Department, Rockford, IL; Notice of Affirmative Determination Regarding Application for Reconsideration

By letter of November 5, 2003, a petitioner requested administrative reconsideration of the Department of Labor's Notice of Negative Determination Regarding Eligibility to Apply for Worker Adjustment Assistance, applicable to workers of the subject firm. The Department's determination notice was signed on September 4, 2003. The notice was published in the Federal Register on October 10, 2003 (68 FR 58719).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 17th day of December, 2003.
Elliott S. Kushner,
Certifying Officer, Division of Trade Adjustment Assistance.

[FR Doc. 04-1525 Filed 1-23-04; 8:45 am]

BILLING CODE 4510-30-P